DEPARTMENT OF COMMERCE

Foreign-Trade Zones Board

Foreign-Trade Zone 114—Peoria, IL Site Renumbering Notice

Foreign-Trade Zone 114 was approved by the FTZ Board on December 21, 1984 (Board Order 288, 50 FR 1606, 1/11/1985) and currently consists of seven “sites” totaling 988 acres in the Peoria, Illinois, area. The current update does not alter the physical boundaries that have previously been approved, but instead involves an administrative renumbering that separates certain non-contiguous sites for record-keeping purposes.

Under this revision, the site list for FTZ 114 will be as follows: Site 1 (88 acres) located at 1925 Darst Street, Peoria; Site 2 (150 acres) located at 603 North Main Street, East Peoria; Site 4 (2 acres) located at 5703 West Smithville Road, Bartonville; Site 5 (37 acres) located at 278 Koch Street, Pekin; Site 6 (17 acres) located at 6409 West Smithville Road, Bartonville; Site 7 (360 acres) located at the former Chanute Air Force Base, 601 S. Century Boulevard, Rantoul; Site 8 (333 acres) located at 659 Knox Road 1440N (U.S. 150 East and I-74), Galesburg; and, Site 9 (145,000 sq. ft.) located at 2314 E. Wilkins Drive, Mossville.

For further information, contact Elizabeth Whiteman at Elizabeth.Whiteman@trade.gov or (202) 482-0473.

Dated: September 17, 2010.
Andrew McGilvray,
Executive Secretary.

[FR Doc. 2010-24035 Filed 9-23-10; 8:45 am]

BILLING CODE P